FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012167-001.

Title: KL/PIL Space Charter and Sailing Agreement.

Parties: Kawasaki Kisen Kaisha, Ltd, and Pacific International Lines (PTE) Ltd.

Filing Party: Lauren S. Loyd, Esquire; Nixon Peabody LLP, 555 West Fifth Street, 46th Floor; Los Angeles, CA 90013.

Synopsis: The amendment clarifies the geographic scope and revises the TEU capacity.

By Order of the Federal Maritime Commission.
Dated: June 29, 2012.
Karen V. Gregory,
Secretary.

[FR Doc. 2012-16471 Filed 7-3-12; 8:45 am]

BILLING CODE 6730-01-P